SOCIAL SECURITY ADMINISTRATION

[Docket No. SSA-2016-0037]

Agreement on Social Security Between the United States and Hungary; Entry into Force

AGENCY: Social Security Administration (SSA)

ACTION: Notice

SUMMARY: We are giving notice that an agreement coordinating the United States (U.S.) and Hungarian social security programs will enter into force on September 1, 2016. The agreement with Hungary, which was signed on February 3, 2015, is similar to U.S. social security agreements already in force with 25 other countries—Australia, Austria, Belgium, Canada, Chile, the Czech Republic, Denmark, Finland, France, Germany, Greece, Ireland, Italy, Japan, Korea (South), Luxembourg, the Netherlands, Norway, Poland, Portugal, the Slovak Republic, Spain, Sweden, Switzerland, and the United Kingdom. Section 233 of the Social Security Act authorizes agreements of this type.

Like the other agreements, the U.S.-Hungarian agreement eliminates dual social security coverage. This situation exists when a worker from one country works in the other country and has coverage under the social security systems of both countries for the same work. When dual coverage occurs, the worker, the worker's employer, or both may be required to pay social security contributions to the two countries simultaneously without such agreements in force. Under the U.S.-Hungarian agreement, a worker who is sent by an employer in one country to work in the other country for five or fewer years remains covered only by the sending country. The agreement includes additional rules that eliminate dual U.S. and Hungarian coverage in other work situations.

The agreement also helps eliminate situations where workers suffer a loss of benefit rights because they have divided their careers between the two countries. Under the agreement, workers may qualify for partial U.S. benefits or partial Hungarian benefits based on combined (totalized) work credits from both countries.

Persons who wish to obtain copies of the agreement or want more information about its provisions may write to the Social Security Administration, Office of International Programs, Post Office Box 17741, Baltimore, MD 21235-7741 or visit the Social Security Web site at www.socialsecurity.gov/international.

Carolyn Colvin,
Acting Commissioner of Social Security.

[FR Doc. 2016-21348 Filed 9-2-16; 8:45 am]

BILLING CODE 4191-02-P